DEPARTMENT OF HOMELAND SECURITY

Coast Guard

33 CFR Part 100

[Docket No. USCG-2008-0763]

RIN 1625-AA00

Special Local Regulation; Chris Craft Silver Cup Regatta, St. Clair River, Algonac, MI

AGENCY: Coast Guard, DHS.

ACTION: Temporary final rule.

SUMMARY: The Coast Guard is establishing a temporary special local regulation for an area on the St. Clair River, Algonac, Michigan. This temporary special local regulation is intended to restrict vessels from a portion of the St. Clair River during the Chris Craft Silver Cup Regatta. This temporary special local regulation is necessary to protect spectators and vessels from the hazards associated with boat race operations.

DATES: This rule is effective from 9 a.m. on August 8, 2008 until 8 p.m. on August 10, 2008.

ADDRESSES: Documents indicated in this preamble as being available in the docket are part of docket USCG-2008-0763 and are available online at http://www.regulations.gov.

They are also available for inspection or copying at two locations: The Docket Management Facility (M-30), U.S. Department of Transportation, West Building Ground Floor, Room W12-140, 1200 New Jersey Avenue, SE., Washington, DC 20590, between 9 a.m. and 5 p.m., Monday through Friday, except Federal holidays, and at U.S. Coast Guard Sector Detroit, 110 Mt. Elliot Ave., Detroit, MI 48207 between 8 a.m. and 4 p.m., Monday through Friday, except Federal holidays.

FOR FURTHER INFORMATION CONTACT: If you have questions on this temporary rule, call CDR Joseph Snowden, Prevention, U.S. Coast Guard Sector Detroit, 110 Mount Elliot Ave., Detroit, MI 48207; 313-568-9580. If you have questions on viewing the docket, call Renee V. Wright, Program Manager, Docket Operations, telephone 202-366-9826.

SUPPLEMENTARY INFORMATION:

Regulatory Information

The Coast Guard is issuing this temporary final rule without prior notice and opportunity to comment pursuant to authority under section 4(a) of the Administrative Procedure Act (APA) (5 U.S.C. 553(b)). This provision authorizes an agency to issue a rule without prior notice and opportunity to comment when the agency for good cause finds that those procedures are “impracticable, unnecessary, or contrary to the public interest.” Under 5 U.S.C. 553(b)(B), the Coast Guard finds that good cause exists for not publishing a notice of proposed rulemaking (NPRM) with respect to this rule because it would be impracticable and contrary to the public interest since immediate action is needed to ensure the safety of spectators and vessels during this event. The necessary information to determine whether the marine event poses a threat to persons and vessels was not provided with sufficient time to publish an NPRM. Boat racing in close proximity to watercraft poses significant risk to public safety and property. The likely combination of large numbers of recreation vessels, congested waterways, and high speeds could easily result in serious injuries or fatalities, which makes a special local regulation necessary to safeguard spectators and vessels. For the safety concerns noted, it is in the public interest to have these regulations in effect during the event.

Under 5 U.S.C. 553(d)(3), the Coast Guard finds that good cause exists for making this rule effective less than 30 days after publication in the Federal Register. Delaying this rule would be contrary to the public interest of ensuring the safety of spectators and vessels during this event, and immediate action is necessary to prevent possible loss of life and property.

Background and Purpose

This temporary special local regulation is necessary to ensure the safety of waterways users and event participants from hazards associated with waterways racing. Based on accidents that have occurred in other Captain of the Port zones, and the hazards of high-speed racing, the Captain of the Port Detroit has determined boat racing in close proximity to watercraft poses significant risk to public safety and property. The likely combination of large numbers of recreation vessels, congested waterways, and high speeds could easily result in serious injuries or fatalities. This special local regulation temporarily establishes a regulated area to control vessel movement around the location of the raceway and will help ensure the safety of persons and property at these events and help minimize the associated risks.

Discussion of Rule

A temporary regulated area is necessary to ensure the safety of spectators and vessels during the setup and execution of a boat race in conjunction with the Chris Craft Silver Cup Regatta. The boat races will occur from 9 a.m. until 5 p.m. on August 8, 2008, from 9 a.m. until 8 p.m. on August 9, 2008, and from 9 a.m. until 8 p.m. on August 10, 2008.

The regulated area will encompass all waters of the St. Clair River, North Channel, Algonac, Michigan, bounded on the south by a line starting north of Grande Point Cut on Russel Island at position 42°36.3′ N; 082°32.5′ W extending across the channel to Algonac to a point at position 42°36.5′ N; 082°32.6′ W, following north along the Algonac shoreline to a point at position 42°37.4′ N; 082°31.4′ W, extending southeast to buoy Y “17” at position 42°37.3′ N; 082°31.1′ W, extending southwest to a point on the northern end of Russel Island at position 42°37.0′ N; 082°31.4′ W, continuing southwest along the Russel Island shoreline to the point of origin. All geographic coordinates are North American Datum of 1983 (NAD 83).

All persons and vessels shall comply with the instructions of the Coast Guard Captain of the Port or the designated on-scene representative. Entry into, transiting, or anchoring within the regulated area is prohibited unless authorized by the Captain of the Port Detroit or his designated on-scene representative. The Captain of the Port or his designated on-scene representative may be contacted via VHF Channel 16.

Regulatory Analyses

We developed this rule after considering numerous statutes and executive orders related to rulemaking. Below we summarize our analyses based on 13 of these statutes or executive orders.

Regulatory Planning and Review

This rule is not a significant regulatory action under section 3(f) of Executive Order 12866, Regulatory Planning and Review, and does not require an assessment of potential costs and benefits under section 6(a)(3) of that Order. The Office of Management and Budget has not reviewed it under that Order.

This determination is based on the minimal time that vessels will be restricted from the area and the Coast Guard expects insignificant adverse impact to mariners from the special local regulation's activation.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities.

This rule will affect the following entities, some of which may be small entities: The owners and operators of vessels intending to transit or anchor in a portion of the St. Clair River near Algonac, MI between 9 a.m. on August 8, 2008 and 8 p.m. on August 10, 2008.

This regulated area will not have a significant economic impact on a substantial number of small entities because this rule will only be in effect for three days. Additionally, in the event that this temporary regulated area affects shipping, commercial vessels may request permission from the Captain of the Port Detroit to transit through the area. The Coast Guard will give notice to the public via a Broadcast Notice to Mariners that the regulation is in effect.

Assistance for Small Entities

Under section 213(a) of the Small Business Regulatory Enforcement Fairness Act of 1996 (Pub. L. 104-121), we offer to assist small entities in understanding the rule so that they can better evaluate its effects on them and participate in the rulemaking process.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

Environment

We have analyzed this rule under Department of Homeland Security Management Directive 5100.1 and Commandant Instruction M16475.lD, which guide the Coast Guard in complying with the National Environmental Policy Act of 1969 (NEPA) (42 U.S.C. 4321-4370f), and have concluded that there are no factors in this case that would limit the use of a categorical exclusion under section 2.B.2 of the Instruction. Therefore, this rule is categorically excluded, under figure 2-1, paragraph (34)(h), of the Instruction, from further environmental documentation. This event establishes a regulated area for a marine event, therefore paragraph (34)(h) of the Instruction applies.

A final environmental analysis checklist and a final categorical exclusion determination are available in the docket where indicated under ADDRESSES.

List of Subjects in 33 CFR Part 100

Marine safety, Navigation (water), Reporting and recordkeeping requirements, Waterways.

For the reasons discussed in the preamble, the Coast Guard amends 33 CFR part 100 as follows:

PART 100—REGULATED NAVIGATION AREAS AND LIMITED ACCESS AREAS

1. The authority citation for part 100 continues to read as follows:

Authority: 33 U.S.C. 1233.

2. A new temporary § 100.T09-0763 is added to read as follows:

§ 100.T09-0763 Special Local Regulation; Chris Craft Silver Cup Regata, St. Clair River, Algonac, MI.

(a) Location. The following area is a temporary regulated area: All waters of the St. Clair River, North Channel, Algonac, Michigan, bounded on the south by a line starting north of Grande Point Cut on Russel Island at position 42°36.3′ N; 082°32.5′ W extending across the channel to Algonac to a point at position 42°36.5′ N; 082°32.6′ W, following north along the Algonac shoreline to a point at position 42°37.4′ N; 082°31.4′ W, extending southeast to buoy Y “17” at position 42°37.3′ N; 082°31.1′ W, extending southwest to a point on the northern end of Russel Island at position 42°37.0′ N; 082°31.4′ W, continuing southwest along the Russel Island shoreline to the point of origin. All geographic coordinates are North American Datum of 1983 (NAD 83).

(b) Enforcement Time and Date. This regulation will be enforced on August 8, 2008, from 9 a.m. until 5 p.m., on August 9, 2008 from 9 a.m. until 8 p.m., and on August 10, 2008 from 9 a.m. to 8 p.m.

(c) Regulations. (1) In accordance with the general regulations in section 100.901 of this part, entry into, transiting, or anchoring within this regulated area is prohibited unless authorized by the Captain of the Port Detroit, or his designated on-scene representative.

(2) This regulated area is closed to all vessel traffic, except as may be permitted by the Captain of the Port Detroit or his designated on-scene representative.

(3) Definition. The on-scene representative of the Captain of the Port is any Coast Guard commissioned, warrant, or petty officer who has been designated by the Captain of the Port to act on his behalf. The on-scene representative of the Captain of the Port will be aboard either a Coast Guard or Coast Guard Auxiliary vessel. The Captain of the Port or his designated on-scene representative may be contacted via VHF Channel 16.

(4) Vessel operators desiring to enter or operate within the regulated area shall contact the Captain of the Port Detroit or his on-scene representative to obtain permission to do so. Vessel operators given permission to enter or operate in the regulated area must comply with all directions given to them by the Captain of the Port or his on-scene representative.

Dated: July 23, 2008.
F.M. Midgette,
Captain, U.S. Coast Guard, Captain of the Port Detroit.

[FR Doc. E8-18080 Filed 8-5-08; 8:45 am]

BILLING CODE 4910-15-P